DEPARTMENT OF ENERGY

Federal Energy Regulatory Commission

Combined Notice of Filings #1

Take notice that the Commission received the following electric rate filings:

Docket Numbers: ER18-2486-001.

Applicants: San Diego Gas & Electric Company.

Description: Tariff Amendment: SDGE IV SOLAR AGMT 57 V 11 LGIA AMENDMENT to be effective 9/27/2018.

Filed Date: 11/21/18.

Accession Number: 20181121-5099.

Comments Due: 5 p.m. ET 12/12/18.

Docket Numbers: ER19-91-001.

Applicants: GRP Franklin, LLC.

Description: Tariff Amendment: Amendment to MBR Application to be effective 12/8/2018.

Filed Date: 11/21/18.

Accession Number: 20181121-5100.

Comments Due: 5 p.m. ET 12/12/18.

Docket Numbers: ER19-92-001.

Applicants: GRP Madison, LLC.

Description: Tariff Amendment: Amendment to MBR Application to be effective 12/8/2018.

Filed Date: 11/21/18.

Accession Number: 20181121-5102.

Comments Due: 5 p.m. ET 12/12/18.

Docket Numbers: ER19-388-000.

Applicants: Entergy Arkansas, Inc.

Description: § 205(d) Rate Filing: Updated LBA Agreements to be effective 1/1/2019.

Filed Date: 11/21/18.

Accession Number: 20181121-5093.

Comments Due: 5 p.m. ET 12/12/18.

Docket Numbers: ER19-389-000.

Applicants: Marco DM Holdings, L.L.C.

Description: § 205(d) Rate Filing: Notice of change in status to be effective 1/21/2019.

Filed Date: 11/21/18.

Accession Number: 20181121-5107.

Comments Due: 5 p.m. ET 12/12/18.

Docket Numbers: ER19-390-000.

Applicants: Southwestern Public Service Company.

Description: § 205(d) Rate Filing: SPS-GSEC-RBEC-IA-Kemp substation 0.0.0 to be effective 11/22/2018.

Filed Date: 11/21/18.

Accession Number: 20181121-5120.

Comments Due: 5 p.m. ET 12/12/18.

Docket Numbers: ER19-391-000.

Applicants: Panda Hummel Station LLC.

Description: Baseline eTariff Filing: Application for Reactive Service Tariff to be effective 11/24/2018.

Filed Date: 11/23/18.

Accession Number: 20181123-5045.

Comments Due: 5 p.m. ET 12/14/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 23, 2018.
Nathaniel J. Davis, Sr.,
Deputy Secretary.

[FR Doc. 2018-26008 Filed 11-29-18; 8:45 am]

BILLING CODE 6717-01-P